DEPARTMENT OF TRANSPORTATION

Federal Railroad Administration

[Docket Number FRA-2021-0024]

Notice of Petition for Waiver of Compliance

AGENCY: Federal Railroad Administration (FRA), Department of Transportation (DOT).

ACTION: Notice.

SUMMARY: This document provides the public notice that Sandersville Railroad Company (SAN) petitioned FRA for relief from certain regulations concerning bridge safety standards.

DATES: FRA must receive comments on the petition by August 29, 2025. FRA will consider comments received after that date to the extent practicable.

ADDRESSES:

Comments: Comments related to this docket may be submitted by going to https://www.regulations.gov and following the online instructions for submitting comments.

Instructions: All submissions must include the agency name and docket number. All comments received will be posted without change to https://www.regulations.gov; this includes any personal information. Please see the Privacy Act heading in the SUPPLEMENTARY INFORMATION section of this document for Privacy Act information related to any submitted comments or materials.

Docket: For access to the docket to read background documents or comments received, go to https://www.regulations.gov and follow the online instructions for accessing the docket.

FOR FURTHER INFORMATION CONTACT: Alan Craine, Railroad Safety Specialist, FRA Track and Structures Division, telephone: 202-740-4908, email: alan.craine@dot.gov.

SUPPLEMENTARY INFORMATION: Under part 211 of title 49 Code of Federal Regulations (CFR), this document provides the public notice that by letter received July 7, 2025, SAN petitioned FRA for a waiver of compliance from certain provisions of the Federal railroad safety regulations contained at 49 CFR part 237 (Bridge Safety Standards). FRA assigned the petition Docket Number FRA-2021-0024.

Specifically, SAN requests relief from § 237.31, Adoption of bridge management programs, for its weigh-in-motion scale that is considered a “railroad bridge” under § 237.5, Definitions.¹ In support of its request, SAN states that it has no “actual bridges” and that “the reoccurring costs of maintaining the Bridge Management Program for a single scale with 2 inches of ground clearance could be invested in structural or operational improvements that would benefit safety without negatively impacting the risk of human casualties, environmental damage, or disrupting the Nation's railroad transportation system.” SAN adds that the scale's structural integrity is essential for its operation and accuracy and that the scale is inspected weekly by track inspectors.

¹ By letter received February 1, 2021, SAN sought the same relief, and FRA denied the request by letter dated August 19, 2021. See https://www.regulations.gov/document/FRA-2021-0024-0001 and https://www.regulations.gov/document/FRA-2021-0024-0007.

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

Communications received by August 29, 2025 will be considered by FRA before final action is taken. Comments received after that date will be considered if practicable.

Privacy Act

Anyone can search the electronic form of any written communications and comments received into any of FRA's dockets by the name of the individual submitting the comment (or signing the document, if submitted on behalf of an association, business, labor union, etc.). Under 5 U.S.C. 553(c), DOT solicits comments from the public to inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2025-14352 Filed 7-29-25; 8:45 am]

BILLING CODE 4910-06-P